DEPARTMENT OF ENERGY

Federal Energy Regulatory Commission

[Docket No. AD06-9-000]

RTO Border Utility Issues; Notice Postponing Technical Conference

June 21, 2006.

The Commission is postponing the technical conference on RTO border utility issues originally scheduled for July 10, 2006. The new date will be announced in a future notice.

Magalie R. Salas,
Secretary.

[FR Doc. E6-10487 Filed 7-5-06; 8:45 am]

BILLING CODE 6717-01-P